DEPARTMENT OF ENERGY

U.S. Energy Information Administration

Proposed Change to Data Protection

AGENCY: U.S. Energy Information Administration (EIA), U.S. Department of Energy (DOE).

ACTION: Notice and Request for Review and Comment.

SUMMARY: This notice pertains to Forms EIA-3, the Quarterly Coal Consumption and Quality Report-Manufacturing and Transformation/Processing Coal Plants and Commercial and Institutional Coal Users; EIA-5, the Quarterly Coal Consumption and Quality Report-Coke Plants; EIA-7A, the Coal Production and Preparation Report—Coal Mines and Preparation Plants; and EIA-8A, the Coal Stocks Report-Traders and Brokers. EIA proposes to change and strengthen the data protection provisions on Forms EIA-3, EIA-5, EIA-7A, and EIA-8A.

No changes are proposed for the standby surveys Forms: EIA-1, Weekly Coal Monitoring Report-General Industries and Blast Furnaces; EIA-4, Weekly Coal Monitoring Report-Coke Plants; EIA-6Q, Quarterly Coal Report-Coal Producers and Distributors; and EIA-20, Weekly Coal Monitoring Report of Coal Burning Utilities and Independent Power Producers.

EIA's initial action was a request for comment(s) from interested parties and those who might be affected by changes in the EIA confidentiality procedure regarding these coal survey forms. The request for comments was widely publicized through a Federal Register Notice (FRN), emails to respondents and trade groups, and announcements on the Internet. (Refer to Federal Register: November 27, 2012 (Volume 77, No. 228) [pp 70745-70746]. Also, on December 19, 2012, EIA held a webinar with stakeholders, including members of the National Lime Association and National Mining Association, to explain the proposed change in the confidentiality protections and solicit comments. The comments received from the members of the National Lime Association and National Mining Association supported the proposed changes.

In this notice, EIA proposes to protect and withhold from public release company level information reported on Forms EIA-3, EIA-5, EIA-7A, and EIA-8A. Currently, data reported on these forms are not protected except for certain selected cost and revenue data elements. For Forms EIA-3, EIA-5, and EIA-8A, EIA proposes to protect company information reported on these forms from public release in identifiable form to the extent it satisfies exemption criteria under the Freedom of Information Act and the Trade Secrets Act. However, disclosure limitation procedures will not be applied to the State- and regional-level, statistical, and quantity data published from these surveys. Thus, there may be some statistics that are based on data from fewer than three respondents that may affect the identifiability of reported data. Disclosure limitation procedures will be applied to cost data reported on Forms EIA-3 and EIA-5 and revenue data reported on Forms EIA-7A and EIA-8A. With regards to Form EIA-7A only, the name and address of the responding company, the mine or plant type, and location will continue to be considered public information. These data elements will continue to be released in EIA's public use files and will not be protected from disclosure in identifiable form when releasing statistical aggregate (State-level) information. These data elements are currently released on the EIA Web site in the Form EIA-7A public use file, along with company identifiable Mine Safety and Health Administration (MSHA) data, which are also not protected. All other information reported on Form EIA-7A will be protected from public release in identifiable form to the extent it satisfies exemption criteria under the Freedom of Information Act and the Trade Secrets Act. All proposed changes to the data protection provisions for Forms EIA-3, EIA-5, EIA-7A, and EIA-8A will be retroactive and apply to data reported for calendar years 2011 and 2012. Applying this change retroactively to data reported for 2011 preserves the continuity of certain data series and provides continuity for the main components of EIA's pre-2011 data protection policy. Responses to EIA-3, EIA-5, EIA-7A, and EIA-8A are mandatory.

DATES: Comments regarding this collection must be received on or before June 10, 2013. If you anticipate that you will be submitting comments, but find it difficult to do so within the period of time allowed by this notice, please advise the OMB Desk Officer of your intention to make a submission as soon as possible. The Desk Officer may be telephoned at 202-395-4718 or contacted by email at chad_s_whiteman@omb.eop.gov.

ADDRESSES: Written comments should be sent to Desk Officer for the Department of Energy Office of Information and Regulatory Affairs, Office of Management and Budget New Executive Office Building Room 10102, 735 17th Street NW., Washington, DC 20503.

And to: Attn: Tejasvi Raghuveer, EIA-3 Survey Manager, U.S. Energy Information Administration, EI-24, 1000 Independence Avenue SW., Washington, DC 20585.

FOR FURTHER INFORMATION CONTACT: Tejasvi Raghuveer at the address listed above in ADDRESSES.

SUPPLEMENTARY INFORMATION:

EIA-3: (1) OMB No.: 1905-0167; (2) Information Collection Request Title: Quarterly Coal Consumption and Quality Report-Manufacturing and Transformation/Processing Coal Plants and Commercial and Institutional Coal Users; (3) Type of Request: change to respondent-level protection policy and disclosure limitation procedures; (4) Purpose: to collect all data elements from Form EIA-3 respondents, to release or publish data that is not company identifiable, and does not satisfy the criteria for an exemption under the Freedom of Information Act or satisfy the requirements of the Trade Secrets Act; (5) Estimated Number of Respondents Quarterly: 498; (6) Estimated Number of Responses Annually: 1992; (7) Estimated Number of Burden Hours Annually: 2490 hours; (8) Annual Estimated Reporting and Recordkeeping Cost Burden: $170,116.80.

EIA-5: (1) OMB No.: 1905-0167; (2) Information Collection Request Title: Quarterly Coal Consumption and Quality Report-Coke Plants; (3) Type of Request: change to respondent-level protection policy and disclosure limitation procedures; (4) Purpose: to collect all data elements from Form EIA-5 respondents, to release or publish data that is not company identifiable, and does not satisfy the criteria for an exemption under the Freedom of Information Act or satisfy the requirements of the Trade Secrets Act; (5) Estimated Number of Respondents Quarterly: 19; (6) Estimated Number of Responses Annually: 76; (7) Estimated Number of Burden Hours Annually: 114 hours; (8) Annual Estimated Reporting and Recordkeeping Cost Burden: $7,788.48.

EIA-7A: (1) OMB No.: 1905-0167; (2) Information Collection Request Title: Coal Production and Preparation Report-Coal Mines and Preparation Plants; (3) Type of Request: change to respondent-level protection policy and disclosure limitation procedures; (4) Purpose: to collect all data elements from Form EIA-7A respondents, to release or publish data considered public information (name and address of the responding company, the mine or plant type, and location), and does not satisfy the criteria for an exemption under the Freedom of Information Act or satisfy the requirements of the Trade Secrets Act; (5) Estimated Number of Respondents Annually: 1306; (6) Estimated Number of Responses Annually: 1306; (7) Estimated Number of Burden Hours Annually: 2350.8; (8) Annual Estimated Reporting and Recordkeeping Cost Burden: $160,606.66.

EIA-8A: (1) OMB No.: 1905-0167; (2) Information Collection Request Title: Coal Stocks Report-Traders and Brokers; (3) Type of Request: change to respondent-level protection policy and disclosure limitation procedures; (4) Purpose: to collect all data elements from Form EIA-8A respondents, to release or publish data that is not company identifiable, and does not satisfy the criteria for an exemption under the Freedom of Information Act or satisfy the requirements of the Trade Secrets Act; (5) Estimated Number of Respondents Annually: 89; (6) Estimated Number of Responses Annually: 89; (7) Estimated Number of Burden Hours Annually: 89 hours; (8) Annual Estimated Reporting and Recordkeeping Cost Burden: $6,080.48.

Statutory Authority: 15 U.S.C. 772(b), Section 13(b) of the Federal Energy Administration Act of 1974 (FEA Act), Public Law 93-275.

Issued in Washington, DC, on May 6, 2013.
Renee Miller,
Acting Director, Office of Survey Development and Statistical Integration, U.S. Energy Information Administration.

[FR Doc. 2013-11153 Filed 5-9-13; 8:45 am]

BILLING CODE 6450-01-P